DEPARTMENT OF TRANSPORTATION

Coast Guard

[USCG-2002-13074]

National Offshore Safety Advisory Committee

AGENCY: Coast Guard, DOT.

ACTION: Notice of public meeting.

SUMMARY: The Liftboat Subcommittee of the National Offshore Safety Advisory Committee (NOSAC) will meet to discuss various issues as outlined in the agenda. The meeting will be open to the public.

DATES: The Liftboat Subcommittee will meet on Thursday, September 5, 2002, from 9 a.m. to 12 noon. The meeting may close early if all business is finished. Requests to make oral presentations should reach the Coast Guard on or before August 29, 2002.

ADDRESSES: The Subcommittee will meet in the main conference room, of the Superior Energy Services Bldg, 1209 Peters Rood, Harvey, Louisiana. Send written material and requests to make oral presentations to James M. Magill, Assistant Executive Director of NOSAC, Commandant (G-MSO-2), U.S. Coast Guard Headquarters, 2100 Second Street SW., Washington, DC 20593-0001. This notice is available on the Internet at http://dms.dot.gov.

FOR FURTHER INFORMATION CONTACT: James M. Magill, Assistant Executive Director of NOSAC, telephone 202-267-1082, fax 202-267-4570, or e-mail at: jmagill@comdt.uscg.mil.

SUPPLEMENTARY INFORMATION: Notice of this meeting is given under the Federal Advisory Committee Act, 5 U.S.C. App. 2.

Agenda of Meeting

(1) Welcoming remarks

(2) Discussion on Task Statement

(3) Presentations

(4) Questions, general discussion and roundtable

(5) Questions from public attendees

(6) Adjourn

Procedural

This meeting is open to the public. Please note that the meeting may close early if all business is finished. At the Chair's discretion, members of the public may make oral presentation during the meeting. If you would like to make an oral presentation at the meeting, please notify the Assistant Executive Director no later than August 29, 2002.

Information on Services for Individuals With Disabilities

For information on facilities or services for individuals with disabilities or to request special assistance at the meetings, contact the Assistant Executive Director as soon as possible.

Dated: August 8, 2002.
Howard L. Hime,
Acting Director of Standards, Marine Safety, Security and Environmental Protection.

[FR Doc. 02-20751 Filed 8-14-02; 8:45 am]

BILLING CODE 4910-15-P